DEPARTMENT OF DEFENSE

Office of the Secretary

[Docket ID: DoD-2012-HA-0148]

Submission for OMB Review; Comment Request

ACTION: Notice.

SUMMARY: The Department of Defense has submitted to OMB for clearance, the following proposal for collection of information under the provisions of the Paperwork Reduction Act (44 U.S.C. Chapter 35).

DATES: Consideration will be given to all comments received by May 19, 2014.

FOR FURTHER INFORMATION CONTACT: Fred Licari, 571-372-0493.

SUPPLEMENTARY INFORMATION: Title, Associated Form and OMB Number: Electronic Blood Management System (EBMS); OMB Control Number 0720-TBD.

Type of Request: New Collection.

Number of Respondents: 4,600.

Responses per Respondent: 1.

Annual Responses: 4,600.

Average Burden per Response: 10 minutes.

Annual Burden Hours: 766.

Needs and Uses: EBMS is a family of related automated information systems (AIS) comprised of two separate and distinct commercial-off-the-shelf (COTS) software applications that provides the Military Health System (MHS) with a comprehensive enterprise wide Blood Donor Management System (BDMS) and a Blood Management Blood Bank and Transfusion Service (BMBB/TS). The Blood Donor Management System (BDMS) employs two separate COTS software applications, Mediware Corporation's LifeTrak Donor™ and LifeTrak Lab & Distribution™. BDMS is a technology modernization effort intended to enhance the DoD's Blood Program capabilities for Donor Centers through the seamless integration of blood products inventory management, transport, availability, and most importantly, blood and blood products traceability from collection to disposition within the electronic health record (EHR). The Blood Management Blood Bank Transfusion Service (BMBB/TS) employs two separate COTS software applications, Mediware Corporation's HCLL™ (Transfusion) and KnowledgeTrak™ (Learning Management). BMBB/TS is an effort intended to enhance the DoD's Blood Program capabilities for a seamless integration of blood banking and transfusion activities, products inventory management, transport, availability, and most importantly traceability from transfusion to disposition or destruction within the electronic health record (EHR). EBMS has built-in safeguards to limit access and visibility of personal or sensitive information in accordance with the Privacy Act of 1974. The application will account for everyone that donates blood and receives a blood transfusion in the MHS—Active Duty, Reserves, National Guard, government civilian, contractors and volunteers assigned or borrowed—this also includes non-appropriated fund employees and foreign nationals.

Affected Public: Contractors, civilian and foreign nationals donating to the Military Health Systems.

Frequency: On occasion.

Respondent's Obligation: Voluntary.

OMB Desk Officer: Mr. John Kraemer.

Written comments and recommendations on the proposed information collection should be sent to Mr. Kraemer at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD Information Management Division, 4800 Mark Center Drive, East Tower, Suite 02G09, Alexandria, VA 22350-3100.

Dated: April 15, 2014.
Aaron Siegel,
Alternate OSD Federal Register Liaison Officer, Department of Defense.

[FR Doc. 2014-08913 Filed 4-17-14; 8:45 am]

BILLING CODE 5001-06-P